DEPARTMENT OF HOMELAND SECURITY

Transportation Security Administration

[Docket No. TSA-2004-17131]

Intent To Request Extension From OMB of One Current Public Collection of Information: Aircraft Repair Station Security

AGENCY: Transportation Security Administration, DHS.

ACTION: 60-Day notice.

SUMMARY: The Transportation Security Administration (TSA) invites public comment on one currently approved Information Collection Request (ICR), Office of Management and Budget (OMB) control number 1652-0060 that we will submit to OMB for an extension in compliance with the Paperwork Reduction Act (PRA). The ICR describes the nature of the information collection and its expected burden. The collection involves recordkeeping requirements and petitions for reconsideration by owners and/or operators of repair stations certificated by the Federal Aviation Administration (FAA).

DATES: Send your comments by February 18, 2022.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0060; Aircraft Repair Station Security. In accordance with 49 U.S.C. 44924 and 49 CFR part 1554, TSA performs security reviews and audits of aircraft repair stations located within and outside of the United States.

Section 611 the Vision 100 Century of Aviation Reauthorization Act (the Act) requires the Department of Homeland Security (DHS) to ensure the security of aircraft repair stations. Public Law 108-176 (Oct. 5, 2018) as codified at 49 U.S.C. 44924. The Act further requires a security review and audit of aircraft repair stations located outside the United States, with a 145-certificate issued by the FAA. Id. TSA, on behalf of DHS, is the agency to conduct the relevant tasks associated with this legislation. As required by the Act, TSA published a final rule setting forth the new requirements in 2014. See 79 FR 2119 (Jan. 13, 2014).

Under TSA's regulations, aircraft repair stations certificated by the FAA under part 145 and located on or adjacent to an airport, as defined in 49 CFR 1554.101(a)(1) and (2), are required to implement security requirements. Unless located on a military installation, these aircraft repair stations are subject to inspection by TSA.

The required security measures include designating a TSA point of contact and preventing the operation of unattended large aircraft that are capable of flight. An aircraft repair station owner or operator also is responsible for maintaining updated employment history records to demonstrate compliance with the regulatory requirements. These records must be made available to TSA upon request. If TSA discovers security deficiencies, an aircraft repair station may be subject to suspension or, in extreme cases, withdrawal of its 145-certificate by the FAA if such deficiencies are not corrected. An aircraft repair station owner or operator may petition for reconsideration (appeal) of a determination by TSA that FAA must suspend or revoke its certificate. TSA uses the collected information to determine compliance with the security measures required under 49 CFR part 1554.

The respondents to this information collection are the owners and/or operators of aircraft repair stations certificated by the FAA under 14 CFR part 145, which is estimated to be over 4,000 aircraft repair stations located within the United States and more than 900 active repair stations located outside the United States.

Respondent aircraft repair stations are required to submit and update security point of contact information, respond to requests to inspect documentation, and may petition for reconsideration. For these activities, TSA estimates that all respondent repair stations will incur a total of 412 hours annually to satisfy the collection requirements.

Dated: December 15, 2021.
Christina A. Walsh,
TSA Paperwork Reduction Act Officer, Information Technology.

[FR Doc. 2021-27477 Filed 12-17-21; 8:45 am]

BILLING CODE 9110-05-P